NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: April 30, 2020; 1:00 p.m.-3:00 p.m.

Place: National Science Foundation, 2415 Eisenhower Avenue, Alexandria, VA 22314.

Due to ongoing social distancing best practices because of COVID-19 the meeting will be held virtually among the Advisory Committee members. Public visitors will be able to listen telephonically. Public attendees should contact Melody Jenkins at MJenkins@nsf.gov to register and receive information to join the meeting.

Type of Meeting: Open.

Contact Person: Brent Miller, National Science Foundation, 2415 Eisenhower Avenue, Room C 12000, Alexandria, VA 22314; Telephone Number: (703) 292-8400.

Purpose of Meeting: The Advisory Committee for the Directorate for Biological Sciences (BIO) provides advice, recommendations, and oversight concerning major program emphases, directions, and goals for the research-related activities of the divisions that make up BIO.

Agenda: Agenda items will include a directorate business update, status update on the standard metrics for BIO proposal submissions and review, a review of the charge for the Long-Term Ecological Research 40-year review, a review of the BIO's Office of the Assistant Director's response to the Division of Environmental Biology's Committee of Visitor Report, and discussion of the research communities' adaptation to COVID-19 restrictions.

Dated: March 27, 2020.
Crystal Robinson,
Committee Management Officer.

[FR Doc. 2020-06794 Filed 3-31-20; 8:45 am]

BILLING CODE 7555-01-P